ENVIRONMENTAL PROTECTION AGENCY

40 CFR Part 52

[EPA-R08-OAR-2012-0168; FRL-9756-5]

Approval and Promulgation of Air Quality Implementation Plans; Utah; Revisions to UAC Rule 401—Permit: New and Modified Sources

AGENCY: Environmental Protection Agency (EPA).

ACTION: Final rule.

SUMMARY: The Environmental Protection Agency (EPA) is taking final action to approve State Implementation Plan revisions submitted by the State of Utah on April 17, 2008 and partially approve SIP revisions submitted by the State of Utah on September 15, 2006. The revisions contain new rules in Utah's Title 307 Rule 401 (Permit: New and Modified Sources). The intended effect of this action is to propose to approve the rules that are consistent with the Clean Air Act. This action is being taken under sections 110 and 112 of the Clean Air Act.

DATES: This final rule is effective June 12, 2014.

ADDRESSES: EPA has established a docket for this action under Docket ID No. EPA-R08-OAR-2012-0168. All documents in the docket are listed in the www.regulations.gov Web site. Although listed in the index, some information is not publicly available, e.g., CBI or other information whose disclosure is restricted by statute. Certain other material, such as copyrighted material, will be publicly available only in hard copy. Publicly available docket materials are available either electronically in www.regulations.gov or in hard copy at the Air Program, Environmental Protection Agency (EPA), Region 8, 1595 Wynkoop Street, Denver, Colorado 80202-1129. EPA requests you contact the individual listed in the FOR FURTHER INFORMATION CONTACT section to view the hard copy of the docket. You may view the hard copy of the docket Monday through Friday, 8:00 a.m. to 4:00 p.m., excluding Federal holidays.

FOR FURTHER INFORMATION CONTACT: Kevin Leone, Air Program, Mailcode 8P-AR, Environmental Protection Agency, Region 8, 1595 Wynkoop Street, Denver, Colorado 80202-1129, (303) 312-6227, or leone.kevin@epa.gov.

SUPPLEMENTARY INFORMATION:

Table of Contents

I. What action is EPA taking?

A. Summary of Final Action

II. Background

III. What Are the Grounds for this Approval Action

IV. Summary of Final Action

V. Statutory and Executive Order Reviews

Definitions

For the purpose of this document, we are giving meaning to certain words or initials as follows:

(i) The words or initials Act or CAA mean or refer to the Clean Air Act, unless the context indicates otherwise.

(ii) The words EPA, we, us or our mean or refer to the United States Environmental Protection Agency.

(iii) The initials HAP mean or refer to Hazardous Air Pollutant.

(iv) The initials MACT mean or refer to Maximum Achievable Control Technology.

(v) The initials NAAQS mean or refer to National Ambient Air Quality Standards.

(vi) The initials NSR mean or refer to New Source Review.

(vii) The initials SIP mean or refer to State Implementation Plan.

(viii) The words State or Utah mean the State of Utah, unless the context indicates otherwise.

(ix) The initials UAC mean or refer to the Utah Administrative Code.

I. What action is EPA taking?

A. Summary of Final Action

We are taking final action to approve the renumbering of R307-413-7 to R307-401-14 (Used Oil Fuel Burned for Energy Recovery) as submitted by the State of Utah on September 15, 2006; changes to the definition of “Boiler” in R307-401-14(1), as submitted by the State of Utah on April 17, 2008; and conditionally approve R307-401-15 and approve R307-401-16 as submitted on September 15, 2006.

EPA proposed an action for the above SIP revision submittals on June 25, 2012, (77 FR 37859.) We accepted comments from the public on this proposal from June 26, 2012, until July 25, 2012. EPA received no comments during the public comment period. In the proposed rule, we described our basis for the actions identified above. The reader should refer to the proposed rule, and sections III and IV of this preamble, for additional information regarding this final action.

EPA reviews a SIP revision submission for its compliance with the Act and EPA regulations. We evaluated the submitted SIP revisions for Utah's minor NSR regulations based upon the regulations and associated record that have been submitted and are currently before EPA. In order for EPA to ensure that Utah has regulations that meet the requirements of the CAA, the State must demonstrate the regulations are as stringent as the Act and the implementing regulations discussed in this notice. For example, EPA must have sufficient information to make a finding that the new regulations will ensure protection of the NAAQS, and noninterference with the Utah SIP control strategies, as required by section 110(l) of the Act.

II. Background

On September 20, 1999, the State of Utah submitted a renumbering and recodification of its Utah Administrative Code (UAC) rules within the Utah SIP. EPA took final action to approve portions of this submittal on February 14, 2006 (71 FR 7670). In that action EPA approved the recodification of R307-413-7 (Exemption from Notice of Intent Requirements for Used Oil Burned for Energy Recovery, previously found under R307-7-2 and 3). On September 15, 2006, the State of Utah again submitted a renumbering and recodification of its UAC rules within the Utah SIP which renumbered R307-413-7 to R307-401-14 (Used Oil Fuel Burned for Energy Recovery). We are taking final action to approve this renumbering in this action.

On April 17, 2008, the State of Utah submitted a revision to R307-401-14 which changed the definition of “Boiler.” We are taking final action to approve this definition change in this action.

On October 1, 1990, R307-6 (De minimis Emissions from Air Strippers and Soil Venting Projects) was approved into the Utah SIP. On August 14, 1998, EPA approved revisions to R307-6 (63 FR 43624). On January 8, 1999, Utah submitted substantive revisions to R307-6, which also renumbered R307-6 to R307-413-8 and R307-413-9. EPA did not act on this submittal. On September 15, 2006, Utah submitted revisions which moved R307-413-8 and R307-413-9 to R307-401-15 (Air Strippers and Soil Venting Projects) and R307-401-16 (De minimis Emissions from Soil Aeration Projects). Utah's January 8, 1999, submittal is superceded by the September 15, 2006, submittal. EPA is taking final action to conditionally approve R307-401-15 and approve R307-401-16 as submitted on September 15, 2006, in this action.

All other portions of the September 15, 2006, submittal not addressed in this action will be addressed at a later date.

III. What Are the Grounds for This Approval Action

In this final rulemaking, we are taking final action to approve the renumbering of R307-413-7 to R307-401-14 (Used Oil Fuel Burned for Energy Recovery) as submitted by the State of Utah on September 15, 2006, because this provision had been previously approved into the Utah SIP (71 FR 7670) and the revision does not contain substantive changes to the rule. We are also clarifying that R307-401-14(3) refers to the owner or operator of a boiler as described in R307-401-14(1).

We are taking final action to approve changes to the definition of “Boiler” in R307-401-14(1) as submitted by the State of Utah on April 17, 2008, in this action. The current federally approved definition of “Boiler” in R307-413-7 references Utah's solid and hazardous waste definition of “Boiler” in R315-1-1 as it was defined in 40 CFR 260.10, as amended on July 1, 2002. Utah's current federally approved version of R315-1-1 incorporates by reference 40 CFR 260.10, as amended on July 1, 2008. Since there is no substantive difference between 40 CFR 260.10, as amended on July 1, 2002, and 40 CFR 260.10, as amended on July 1, 2008, we are taking final action to approve this definition change in R307-401-14.

We are taking final action to conditionally approve R307-401-15 and approve R307-401-16 as submitted on September 15, 2006, in this action. CAA 110(k)(4) states “The administrator may approve a plan revision based on a commitment of the State to adopt specific enforceable measures by a date certain, but not later than 1 year after the date of approval of the plan revision. Any such conditional approval shall be treated as a disapproval if the state fails to comply with such commitment”.

We are taking final action to conditionally approve R307-401-15 because R307-401-15(3) allows for a “test or monitoring method approved by the executive secretary,” which is director's discretion. Utah submitted a letter to EPA on February 24, 2012, committing to revise R307-401-15(3) to remove the executive secretary's discretion to approve alternate test or monitoring methods (see docket). Utah must submit a SIP revision to change or remove this language not later than one year after the date of final publication of on this rulemaking. If, however, Utah does not submit such a revision within this timeframe, EPA's conditional approval of R307-401-15(3) will revert to a disapproval.

R307-401-15 and R307-401-16 allows all air stripper, soil venting and soil aeration projects to be exempt from notice of intent and approval order requirements if the estimated actual air emissions from volatile organic compounds from a given project are less than 5 tons per year (R307-401-9(1)(a)) and the level of any one hazardous air pollutant (HAP) or combination of HAPs are less than the levels listed in R307-410-4(1)(d) (Toxic Screening Levels and Averaging Periods). EPA has approved similar de minimis thresholds for criteria pollutants in past rulemakings: The State of Idaho's permit to construct regulations, which were approved final on January 16, 2003 (68 FR 2217); and the State of Montana's exclusion for de minimis changes, which were approved final on February 13, 2012 (77 FR 7531). R307-401-15 and R307-401-16 contain provisions which are smaller in nature and scope than the previously approved rulemakings, as they generally only apply to the remediation of underground storage tanks. EPA finds the revisions would not interfere with any applicable requirement concerning attainment of the NAAQS, rate of progress and reasonable further progress (as defined in section 171), or any other applicable requirement of this Act.

A review of air stripper, soil venting and soil aeration projects from 2008—2010 which were exempted from notice of intent and approval order requirements under R307-401-15 and R307-401-16 show negligible criteria pollutant emissions (see docket). In addition, data from the Utah leaking underground storage tank program shows a significant decrease in the number of new cleanups initiated over the last 10 years (see docket). These provisions meet the requirements of 40 CFR 51.160 because they require prior written approval (R307-401-15(2), R307-401-16(1)) of the State and have testing requirements (R307-401-15(3)) to ensure that exempted projects do not exceed the de minimis thresholds as described in R307-401-9.

IV. Summary of Final Action

Based on the above discussion, EPA finds that the revisions are consistent with all CAA requirements. We are taking final action to approve the renumbering of R307-413-7 to R307-401-14 (Used Oil Fuel Burned for Energy Recovery) as submitted by the State of Utah on September 15, 2006; changes to the definition of “Boiler” in R307-401-14(1), as submitted by the State of Utah on April 17, 2008; and conditionally approve R307-401-15 and approve R307-401-16 as submitted on September 15, 2006.

V. Statutory and Executive Order Reviews

Under the Clean Air Act, the Administrator is required to approve a SIP submission that complies with the provisions of the Act and applicable Federal regulations 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994). In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 14, 2014. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Particulate matter, Reporting and recordkeeping requirements, Sulfur oxides, Volatile organic compounds.

Dated: October 19, 2012
James B. Martin,
Regional Administrator Region 8. Original signature affirmed by:
Dated: April 22, 2014.
Shaun L. McGrath,
Regional Administrator, Region 8.

40 CFR part 52 is amended as follows:

PART 52 APPROVAL AND PROMULGATION OF IMPLEMENTATION PLANS

1. The authority citation for part 52 continues to read as follows:

Authority: 42 U.S.C. 7401 et seq.

Subpart TT—Utah

2. Section 52.2320 is amended by adding paragraph (c)(78) to read as follows:

§ 52.2320 Identification of plan.

* * * * *

(c) * * *

(78) On April 17, 2008 the State of Utah submitted revisions to the Utah Administrative Code (UAC) R307-401-14, Used Oil Fuel Burned for Energy Recovery. On September 15, 2006 the State of Utah submitted revisions to the UAC R307-401-15, Air Strippers and Soil Venting Projects, and R307-401-16, De minimis Emissions From Soil Aeration Projects.

(i) Incorporation by Reference

(A) Title R307 of the Utah Administrative Code, Environmental Quality, Air Quality, Rule R307-401-14, Used Oil Fuel Burned for Energy Recovery. Effective February 8, 2008; as published in the Utah State Bulletin on December 1, 2007 and March 1, 2008.

(B) Title R307 of the Utah Administrative Code, Environmental Quality, Air Quality, R307-401-15, Air Strippers and Soil Venting Projects, and R307-401-16, De minimis Emissions From Soil Aeration Projects. Effective June 16, 2006; as published in the Utah State Bulletin on December 1, 2005 and July 15, 2006.

[FR Doc. 2014-10823 Filed 5-12-14; 8:45 am]

BILLING CODE 6560-50-P